NUCLEAR REGULATORY COMMISSION

[Docket Nos. 50-335 and 50-389]

Florida Power & Light Company, et al., St. Lucie Plant, Units Nos. 1 and 2; Environmental Assessment and Finding of No Significant Impact

The U.S. Nuclear Regulatory Commission (NRC) is considering issuance of an amendment to the Facility Operating Licenses Nos. DPR-67 and NPF-16, issued to Florida Power and Light Company (the licensee) for operation of the St. Lucie Plant, Units 1 and 2, respectively, located in St. Lucie County, Florida. Therefore, pursuant to 10 CFR 51.21 and 51.32, the NRC is issuing this environmental assessment and finding of no significant impact.

Environmental Assessment

Identification of the Proposed Action

The proposed action would amend Section 4.2 of the St. Lucie Units 1 and 2 Environmental Protection Plans (Non-radiological) to incorporate the revised terms and conditions of the Incidental Take Statement (ITS) included in the Biological Opinion issued by the National Marine Fisheries Service (NMFS) on May 4, 2001, as clarified by NMFS letter dated October 8, 2001, and to reflect a change in the administration of the National Pollutant Discharge Elimination System (NPDES) permitting programs from the U.S. Environmental Protection Agency to the Florida Department of Environmental Protection.

The proposed action is in accordance with the licensee's application dated January 25, 2002.

The Need for the Proposed Action

The proposed action is needed to reflect the revised terms and conditions of the ITS as set forth in the May 4, 2001, Biological Opinion, as clarified by NMFS letter dated October 8, 2001, and to document the change in the permitting authority of the NPDES permit.

Environmental Impacts of the Proposed Action

The NRC has completed its evaluation of the proposed action and concludes that the proposed changes are administrative in nature and have no effect on plant equipment or plant operation. No changes will be made to the design, licensing bases, or the applicable procedures for the units.

The proposed action will not significantly increase the probability or consequences of accidents, no changes are being made in the types of effluent that may be released off site, and there is no significant increase in occupational or public radiation exposure. Therefore, there are no significant radiological environmental impacts associated with the proposed action.

With regard to potential non-radiological impacts, the proposed action does not have a potential to affect any historic sites. It does not affect any non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative.) Denial of the application would result in no significant change in current environmental impacts. The environmental impacts of the proposed action and the alternative action are similar.

Alternative Use of Resources

The action does not include the use of any different resources than those previously considered in the Final Environmental Statement for St. Lucie Unit 1, dated June 1973, and in the Final Environmental Statement for St. Lucie Unit 2, dated April 1983 (NUREG-0842).

Agencies and Persons Consulted

On July 9, 2002, the staff consulted with the Florida State official, William Passetti, of the Bureau of Radiation Control, regarding the environmental impact of the proposed action. The State official had no comment or objections.

Finding of No Significant Impact

On the basis of the environmental assessment, the NRC concludes that the proposed action will not have a significant effect on the quality of the human environment. Accordingly, the NRC has determined not to prepare an environmental impact statement for the proposed action.

For further details with respect to the proposed action, see the licensee's letter dated January 25, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 22nd day of July 2002.
For the Nuclear Regulatory Commission.
Kahtan N. Jabbour,
Acting Chief, Section 2, Project Directorate II, Division of Licensing Project Management, Office of Nuclear Reactor Regulation.

[FR Doc. 02-19074 Filed 7-26-02; 8:45 am]

BILLING CODE 7590-01-P